DEPARTMENT OF JUSTICE

[CPCLO Order No. 001-2024]

Privacy Act of 1974; Systems of Records

AGENCY: Environment and Natural Resources Division, United States Department of Justice.

ACTION: Notice of a modified system of records.

SUMMARY: Pursuant to the Privacy Act of 1974 and Office of Management and Budget (OMB) Circular No. A-108, notice is hereby given that the Environment and Natural Resources Division (hereinafter “ENRD” or “Division”), a component within the United States Department of Justice (DOJ or Department), proposes to modify a system of records last published in full on February 23, 2000, titled “Environment and Natural Resources Division Case and Related Files System,” (JUSTICE/ENRD-003).

DATES: In accordance with 5 U.S.C. 552a(e)(4) and (11), this notice is applicable upon publication, subject to a 30-day period in which to comment on the routine uses, described below. Please submit any comments by May 23, 2024.

ADDRESSES: The public, OMB, and Congress are invited to submit any comments by mail to the United States Department of Justice, Office of Privacy and Civil Liberties, ATTN: Privacy Analyst, 145 N St. NW, Suite 8W.300, Washington, DC 20530; by facsimile at 202-307-0693; or by email at privacy.compliance@usdoj.gov. To ensure proper handling, please reference the above CPCLO Order No. on your correspondence.

FOR FURTHER INFORMATION CONTACT: Charles Smiroldo, FOIA Coordinator and Public Liaison, Department of Justice, Environment and Natural Resources Division Law and Policy Section, 950 Pennsylvania Avenue NW, Washington, DC 20530-0001 Telephone: (202) 514-0424.

SUPPLEMENTARY INFORMATION: Pursuant to updated OMB Guidance, ENRD has made administrative edits to the order and titles of sections in the notice. The Division also proposes these modifications to incorporate substantial developments made to the ENRD Justice Consolidated Office Network (ENRD JCON) information system, where the Division's “Case and Related Files System” is maintained, in addition to various applications which maintain additional categories of information subject to the Privacy Act. Specifically, the Division will modify the system of records by renaming it, “Environment and Natural Resources Division Administrative and Case Related Files” (JUSTICE/ENRD-003); updating the “System Manager(s)” and “Addresses” section to reflect administrative changes; revising the categories of records covered by adding additional information maintained by applications housed on ENRD JCON; adding new routine uses for the new categories of records maintained on ENRD JCON (primarily relating to the electronic management and handling of case files during investigation and litigation, human capital, transit subsidy and financial reporting information, and public access to the records pursuant to Federal statutes or regulations); deleting and revising routine uses to provide clarity and additional specificity; revising the categories of records and purpose sections to reflect changes made to the system of records that enable Division attorneys, managers and support personnel with the ability to collect, organize, analyze and disseminate information more efficiently. Because of the number of changes made and for public convenience, the modified system of records notice has been printed below in full, replacing the previous notice in its entirety.

ENRD continues to assert the same Privacy Act (j) and (k) exemptions as previously published in 28 CFR 16.92.

As stated above, the purpose of the modified notice is to incorporate the changes and developments to the ENRD JCON information system, a standalone major system residing on the DOJ Justice Consolidated Office Network (JCON) general support system platform, which includes hybrid cloud and on-premises hosting environments. The system interconnects with various applications designed to facilitate ENRD litigation support, and to manage administrative processes. The purpose for modifying the Privacy Act System of Records Notice is to assist with the facilitation of ENRD's litigation mission, and the Division's need to collect and maintain information pertaining to civil and criminal enforcement investigations, actions, and defensive work on behalf of the United States Government. Specifically, collecting and maintaining the records will support ENRD in reviewing documents for relevance and privilege claims, tracking use of documentary evidence in litigation, preparing witness kits/binders for depositions and hearings, determining and organizing the facts about the case, and selecting exhibits for trial. The records will also be used to support ENRD's administrative functions.

Additional modifications to the system of records have been made to incorporate OMB guidance, technological advancements, and update existing routine uses and propose new routine uses. Pursuant to OMB Circular No. A-108, various sections were rearranged, and various section titles were edited. ENRD moves the System Manager(s) section in the system of records notice, as well as edited Policies and Practices for Storing, Retrieving, Accessing, Retaining, and Disposing of Records in the System: Storage, Retrievability, Safeguards, and Retention and Disposal to the following section titles: Policies and Practices for Storage of Records; Policies and Practices for Retrieval of Records; Policies and Practices for Retrieval of Records; Policies and Practices for Retention and Disposal of Records; and Administrative, Technical, and Physical Safeguards. Technological advancements, such as the ability to store records in the cloud and creation of stronger authentication methods, and institutional changes led the ENRD to modify and update the Policies and Practices for Storage of Records, Policies and Practices for Retrieval of Records, Administrative, Technical, and Physical Safeguards, System Location, and System Manager(s), and Addresses sections.

Previously routine uses have been consolidated and updated with language consistent with other Department routine uses. ENRD also has included new routine uses, including model routine uses that are included in all DOJ SORNs. The model routine uses permit disclosure to: to a former employee of the Department for purposes of responding to an official inquiry by a Federal, State, or local government entity or professional licensing authority, in accordance with applicable Department regulations; facilitating communications with a former employee that may be necessary for personnel-related or other official purposes where the Department requires information and/or consultation assistance from the former employee regarding a matter within that person's former area of responsibility; communication with licensing agencies or associations which require information concerning the suitability or eligibility of an individual for a license or permit; communication with contractors, grantees, experts, consultants, students, and others performing or working on a contract, service, grant, cooperative agreement, or other assignment for the Federal Government, when necessary to accomplish an agency function related to this system of records; communication with designated officers and employees of State, local, territorial, or Tribal law enforcement or detention agencies in connection with the hiring or continued employment of an employee or contractor, where the employee or contractor would occupy or occupies a position of public trust as a law enforcement officer or detention officer having direct contact with the public or with prisoners or detainees, to the extent that the information is relevant and necessary to the recipient agency's decision; communication with any agency, organization, or individual for the purpose of performing authorized audit or oversight operations of ENRD and meeting related reporting requirements; and communication with any entities or individuals under such circumstances and procedures as are mandated by Federal statute or treaty. ENRD also proposes two new routine uses (x) and (y) to permit disclosure of information related to caring for a live animal or plant that has been seized as a result of an investigation, and to the public, where required, for purposes of publishing proposed consent decrees, settlements, or comments, respectively.

In accordance with 5 U.S.C. 552a(r), the Department has provided a report to OMB and Congress on this new system of records.

Dated: March 28, 2024.
Peter A. Winn,
Acting Privacy and Civil Liberties Officer, United States Department of Justice.

JUSTICE/ENRD-003

SYSTEM NAME AND NUMBER:

“Environment and Natural Resources Division Administrative and Case Related Files,” (JUSTICE/ENRD-003).

SECURITY CLASSIFICATION:

Unclassified.

SYSTEM LOCATION:

Records are located in hybrid cloud and on-premise hosting environments, and may be retained in the Central Office, Field Offices/Locations, Offsite Storage Facilities, or Federal Records Center. Primary contact information may be found on the ENRD's website at https://www.justice.gov/enrd.

SYSTEM MANAGER(S):

The System Manager is the Assistant Director, Office of Information Technology, in coordination with the Office of Administrative Services' Records Management Unit.

AUTHORITY FOR MAINTENANCE OF THE SYSTEM:

Authority to establish and maintain this system is contained in 5 U.S.C. 301 and 44 U.S.C. 3101, which authorize the Attorney General to create and maintain Federal records of agency activities, in addition to 28 U.S.C. 514-19; 42 U.S.C. 7413(g); 5 U.S.C. 552; 42 U.S.C. 6973(d); 42 U.S.C. 9622(d)(2); 42 U.S.C. 9622(i); 28 CFR Part O, subpart L; 28 CFR 50.7; and 28 CFR 16.41.

PURPOSE(S) OF THE SYSTEM:

Case records are maintained to litigate or otherwise resolve civil or criminal cases or matters handled by ENRD. The automated case tracking is maintained to manage and evaluate the Division's litigation and related activities, which includes reviewing documents for relevance and privilege claims, tracking use of documentary evidence in litigation, preparing witness kits/binders for depositions and hearings, determining and organizing the facts about the case, and selecting exhibits for trial. Internal case management, financial reporting, FOIA request tracking, and the Division's personnel records are also maintained in order to fulfill ENRD's legal and administrative functions.

CATEGORIES OF INDIVIDUALS COVERED BY THE SYSTEM:

The categories of individuals covered by this system include: (a) individuals being investigated in anticipation of civil or criminal suits; (b) individuals involved in civil or criminal suits; (c) defense or plaintiff's counsel(s); (d) information sources; (e) individuals relevant to the development of civil or criminal suits, including expert and other witnesses; (f) individual plaintiffs or defendants; (g) members of the public who contact the Division; and (h) attorneys, paralegals, and other employees of the Division directly involved in these cases or personnel related matters.

CATEGORIES OF RECORDS IN THE SYSTEM:

The categories of records in this system include information relating to: (1) litigation and related activities by the Division, including, but not limited to, the protection, use and development of natural resources and public lands, wildlife protection, Indian rights and claims, cleanup of hazardous waste sites, acquisition of private property for Federal use, prosecution of environmental crimes, enforcement of environmental laws, and defense of environmental challenges to government programs and activities. The case files contain court records (such as briefs, motions, and orders), inter-agency and intra-agency correspondence, legal research, and other related documents. These records may include civil investigatory and/or criminal law enforcement information and information classified pursuant to Executive order to protect national security interests. (2) Summary information of these cases or matters (such as names of principal parties or subjects, court docket numbers, status, and attorney assignments) is maintained in an automated Case Management and Time Reporting software application. (3) A timekeeping function for attorneys, paralegals, and other employees of the Division provides data used in: civil and criminal enforcement investigations, actions and litigation; documentary evidence including relevance and privilege claims; witness kits/binders for depositions and hearings; trial exhibits and other litigation support documentation; financial reporting documentation; ENRD personnel records; correspondence, comments, and requests for members of the public; and internal case management records.

RECORD SOURCE CATEGORIES:

Sources of information contained in this system include, but are not limited to: investigative reports of client agencies of the Department of Justice; discovery materials; non-Department of Justice forensic reports; statements of witnesses and parties; verbatim transcripts of depositions and court proceedings; data, public reports, memoranda and reports from the court and agencies thereof; and Division Attorneys, Department of Justice attorneys, investigators, staff, and legal assistants.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

(a) Where a record, either alone or in conjunction with other information, indicates a violation or potential violation of law—criminal, civil, or regulatory in nature—the relevant records may be referred to the appropriate Federal, State, local, territorial, Tribal, or foreign law enforcement authority or other appropriate entity charged with the responsibility for investigating or prosecuting such violation or charged with enforcing or implementing such law;

(b) To any person or entity that the ENRD has reason to believe possesses information regarding a matter within the jurisdiction of the ENRD, to the extent deemed to be necessary by the ENRD in order to elicit such information or cooperation from the recipient for use in the performance of an authorized activity;

(c) A record relating to a case or matter may be disseminated in a Federal, State, local, or Tribal administrative or regulatory proceeding or hearing in accordance with the procedures governing such proceeding or hearing;

(d) To an actual or potential party to litigation or the party's authorized representative, or to a third party neutral, for the purpose of negotiation or discussion of such matters as settlement, plea bargaining, or formal or informal discovery proceedings;

(e) A record relating to a case or matter that has been referred by an agency for investigation, civil or criminal action, enforcement or defense, or that involves a case or matter within the jurisdiction of an agency, may be disseminated to such agency to notify it of the status of the case or matter, or of any decision or determination that has been made, or to make such other inquiries and reports as are necessary during the processing of the case or matter;

(f) A record relating to a case or matter may be disseminated to a foreign country, through the United States Department of State or directly to the representative of such country, pursuant to an international treaty or convention entered into and ratified by the United States or pursuant to an executive agreement;

(g) A record may be disseminated to a foreign country, through the Department of Justice Civil Division, United States Department of State, or directly to the representative of such country, to the extent necessary to assist such country in general crime prevention, the pursuit of civil or criminal judicial actions or general civil regulatory or administrative actions, or to provide investigative leads to such country, or assist in the location and/or returning of witnesses and other evidence;

(h) In an appropriate proceeding before a court, grand jury, or administrative or adjudicative body, when the Department of Justice determines that the records are arguably relevant to the proceeding; or in an appropriate proceeding before an administrative or adjudicative body when the adjudicator determines the records to be relevant to the proceeding;

(i) To the news media and the public, including disclosures pursuant to 28 CFR 50.2, unless it is determined that release of the specific information in the context of a particular case would constitute an unwarranted invasion of personal privacy;

(j) To appropriate officials and employees of a Federal agency or entity that requires information relevant to a decision concerning the hiring, appointment, or retention of an employee; the assignment, detail, or deployment of an employee; the issuance, renewal, suspension, or revocation of a security clearance; the execution of a security or suitability investigation; the letting of a contract, or the issuance of a grant or benefit;

(k) Pursuant to subsection b(12) of the Privacy Act, records relating to an individual who owes an overdue debt to the United States may be disseminated to a Federal agency which employs the individual; a consumer reporting agency; a Federal, State, local or foreign agency; or the Internal Revenue Service (IRS);

(l) To a Member of Congress or staff acting upon the Member's behalf when the Member or staff requests the information on behalf of, and at the request of, the individual who is the subject of the record;

(m) To the National Archives and Records Administration for purposes of records management inspections conducted under the authority of 44 U.S.C. 2904 and 2906;

(n) To complainants and/or victims to the extent necessary to provide such persons with information and explanations concerning the progress and/or results of the investigation or case arising from the matters of which they complained and/or of which they were a victim;

(o) Timekeeping records may be disclosed to opposing parties and to courts in litigation regarding litigation costs;

(p) To a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility;

(q) To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm;

(r) To another Federal agency or Federal entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach;

(s) To Federal, State, local, territorial, Tribal, foreign, or international licensing agencies or associations which require information concerning the suitability or eligibility of an individual for a license or permit;

(t) To contractors, grantees, experts, consultants, students, and others performing or working on a contract, service, grant, cooperative agreement, or other assignment for the Federal Government, when necessary to accomplish an agency function related to this system of records;

(u) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision;

(v) To any agency, organization, or individual for the purpose of performing authorized audit or oversight operations of ENRD and meeting related reporting requirements;

(w) To such recipients and under such circumstances and procedures as are mandated by Federal statute or treaty;

(x) In a matter under investigation or in litigation, a record, or facts derived from it, may be disclosed to an organization or person who is taking a live animal or plant into their care for the purpose of preventing harm to that animal or plant.

(y) To the public, for the purposes of publishing proposed consent decrees, settlements, or comments thereon, as may be required by statute, regulation, or Department policy.

POLICIES AND PRACTICES FOR STORAGE OF RECORDS:

All information, except that specified in this paragraph, is recorded on computer files or basic paper/cardboard material that is stored in file folders, file cabinets, shelves, or safes. Some material is recorded and stored on other data processing storage forms located in file rooms and offsite facilities.

POLICIES AND PRACTICES FOR RETRIEVAL OF RECORDS:

Records in this system are retrieved by the name of the individual, employee identification number, tax identification number, case number, case name, complainant/court docket number, and in limited circumstances Social Security number.

POLICIES AND PRACTICES FOR RETENTION AND DISPOSAL OF RECORDS:

In accordance with the Federal Records Act, DOJ's Office of Records Management Policy (ORMP), and consistent with NARA standards, ENRD ensures that all applications hosted on the ENRD JCON system are in compliance with appropriate retention schedules to manage the use, maintenance, retention and disposition of all DOJ records created and captured. Records are maintained in paper and electronic format, and retentions periods for these records, which include case files, range from approximately 2 years to 100 years after the case closure date. Temporary records are destroyed at the end of the retention period, and permanent records are transferred to the custody of NARA.

To ensure NARA and OMB electronic records compliance, ENRD is modernizing its information intake efforts. As part of this process, legacy hard copy records are in the process of being converted to electronic files for storage/use.

ADMINISTRATIVE, TECHNICAL, AND PHYSICAL SAFEGUARDS:

Records maintained in the ENRD JCON system are both confidential and non-confidential and located in file cabinets, safes and file rooms as well as hybrid cloud and on-premises hosting environments, and may be retained in the Central Office, Field Offices/Locations, Offsite Storage Facilities, or Federal Records Center. Records are also located in litigation support contract document centers and offsite storage locations. Confidential records are in locked file drawers, safes, and secured file rooms. Offices are secured by either Federal Protective Service or private building guards. Electronic records retrievable by Division personnel trained to access existing ENRD software applications or successor applications, within various ENRD offices, are password protected and require access privileges to ENRD JCON.

RECORD ACCESS PROCEDURES:

All requests for access to records must be in writing and should be addressed to the Department of Justice, Environmental and Natural Resources Division, Law and Policy Section, 950 Pennsylvania Avenue NW, Washington, DC 20530 ATTN: FOIA/Privacy Act Coordinator. The envelope and letter should be clearly marked “Privacy Act Access Request.” The request must describe the records sought in sufficient detail to enable Department personnel to locate them with a reasonable amount of effort. The request must include a general description of the records sought and must include the requester's full name, current address, and date and place of birth. The request must be signed and either notarized or submitted under penalty of perjury. Some information may be exempt from the access provisions as described in the “EXEMPTIONS PROMULGATED FOR THE SYSTEM” paragraph, below. An individual who is the subject of a record in this system of records may access those records that are not exempt from access. A determination whether a record may be accessed will be made at the time a request is received.

Although no specific form is required, you may obtain forms for this purpose from the FOIA/Privacy Act Mail Referral Unit, United States Department of Justice, 950 Pennsylvania Avenue NW, Washington, DC 20530, or on the Department of Justice website at https://www.justice.gov/oip/submit-and-track-request-or-appeal.

More information regarding the Department's procedures for accessing records in accordance with the Privacy Act can be found at 28 CFR part 16 Subpart D, “Protection of Privacy and Access to Individual Records Under the Privacy Act of 1974.”

CONTESTING RECORD PROCEDURES:

Individuals seeking to contest or amend records maintained in this system of records must direct their requests to the address indicated in the “RECORD ACCESS PROCEDURES” paragraph, above. All requests to contest or amend records must be in writing and the envelope and letter should be clearly marked “Privacy Act Amendment Request.” All requests must state clearly and concisely what record is being contested, the reasons for contesting it, and the proposed amendment to the record. Some information may be exempt from the amendment provisions as described in the “EXEMPTIONS PROMULGATED FOR THE SYSTEM” paragraph, below. An individual who is the subject of a record in this system of records may contest or amend those records that are not exempt. A determination of whether a record is exempt from the amendment provisions will be made after a request is received.

More information regarding the Department's procedures for amending or contesting records in accordance with the Privacy Act can be found at 28 CFR 16.46, “Requests for Amendment or Correction of Records.”

NOTIFICATION PROCEDURES:

Individuals may be notified if a record in this system of records pertains to them when the individuals request information utilizing the same procedures as those identified in the “RECORD ACCESS PROCEDURES” paragraph, above.

EXEMPTIONS PROMULGATED FOR THE SYSTEM:

The Attorney General has promulgated rules to exempt those records in this system that pertain to the enforcement of criminal laws, that are investigatory materials compiled for law enforcement purposes, or that are classified secret by an Executive Order, from the following Privacy Act requirements: (1) The requirement under (c)(3) to make available to the individual named in the record an accounting of the circumstances under which records about the individual were disclosed; (2) the requirement under (e)(1) to maintain only such information about an individual that is relevant and necessary to accomplish a purpose of the agency; and (3) the requirement under (f) to establish agency procedures to respond to an individual's request for information about himself. The Attorney General also has promulgated a rule to exempt records in this system compiled for criminal enforcement purposes from these additional requirements: (1) The requirement under (c)(4) to inform any party or agency that received an individual's records about any subsequent corrections made to the record; (2) the requirement under (e)(2) to collect information to the greatest extent practicable directly from the individual when the information may result in adverse determinations about an individual's rights, benefits and privileges under Federal programs; (3) the requirement under (e)(3) to inform each individual from whom information is collected of the authority for the information the principal purposes for the information, the routine uses, and the effects, if any, of not providing the information; (4) the requirement under (e)(5) to maintain all records with such accuracy, relevance, timeliness and completeness as is reasonably necessary to assure fairness to the individual, (5) the requirement under (e)(8) to make reasonable efforts to serve notice on an individual when any record on the individual is made available to any person under compulsory legal process when that process becomes a matter of public record; and (6) the authority under (g) providing that individuals may bring a civil action against the agency for violations of the Privacy Act.

These rules have been promulgated in accordance with the requirements of 5 U.S.C. 553(b), (c) and (e), and have been published in the Federal Register.

HISTORY:

65 FR 8990 (February 23, 2000): Last published in full; 66 FR 8425 (January 31, 2001); 70 FR 61159 (October 10, 2005); 72 FR 3410 (January 25, 2007) (Rescinded by 82 FR 24147); 82 FR 24147 (May 25, 2017).

[FR Doc. 2024-07613 Filed 4-22-24; 8:45 am]

BILLING CODE 4410-15-P